DEPARTMENT OF HOMELAND SECURITY

Coast Guard

33 CFR Part 106

[USCG-2003-14759]

RIN 1625-AA68

Outer Continental Shelf Facility Security; Correction

AGENCY: Coast Guard, DHS.

ACTION: Correcting amendments.

SUMMARY: On July 1, 2003, the Coast Guard published a temporary interim rule with request for comments and notice of meeting in the Federal Register concerning the implementation of national maritime security initiatives for Outer Continental Shelf facilities. This document contains corrections to that rule.

DATES: Effective on July 1, 2003.

FOR FURTHER INFORMATION CONTACT: For information concerning this document, write or call Lieutenant Greg Versaw (G-MP), U.S. Coast Guard by telephone 202-267-1103, toll-free telephone 1-800-842-8740 ext. 7-1103, or by electronic mail msregs@comdt.uscg.mil. If you have questions on viewing or submitting material to the docket, call Dorothy Beard, Chief, Dockets, Department of Transportation, at telephone 202-366-5149.

SUPPLEMENTARY INFORMATION: The Coast Guard published a temporary interim rule with request for comments and notice of meeting in the Federal Register on July 1, 2003, (68 FR 39338). The rule contained typographical errors and omissions that may prove to be misleading and therefore need to be corrected.

Corrections to the Preamble

In the temporary interim rule FR Doc. 03-16190 published in the Federal Register on July 1, 2003, make the following corrections:

1. On page 39338, in the third column, under the heading “Supplementary Information,” on line 6, correct the word “Pub. L.” to read “Public Law”.

2. On page 39339, in the first column, correct the heading “Discussion of Comments Addressing OCS Facility Issues in the Notice of Meeting” to read “Discussion of Comments Addressing Outer Continental Shelf (OCS) Facility Issues in the Notice of Meeting”.

3. On page 39339, in the second column, in the third full paragraph, on line 8, correct the words “the crew,” to read “OCS facility personnel,”.

4. On page 39340, in the first column, in the fifth bullet, correct the punctuation “.” to read “;”.

5. On page 39340, in the first column, in the nineth bullet, correct the words “MARSEC Level” to read “Maritime Security (MARSEC) Level”.

6. On page 39340, in the second column, under the subheading “Training,” on line 6, correct the words “Officer and OCS” to read “Officer or OCS”.

7. On page 39340, in the second column, under the subheading “Training,” on line 18, correct the words “possess necessary” to read “possess the necessary”.

8. On page 39341, in the first column, in the first paragraph, on the last line, correct the word “passengers” to read “OCS Facility Personnel”.

9. On page 39341, in the first column, under the subheading “Facility Security Assessment (FSA),” on line 20, correct the words “in the parts” to read “in parts”.

10. On page 39341, in the second column, on line 10, correct the punctuation by adding a “.” at the end of the sentence.

11. On page 39341, in the third column, in the second full paragraph, on line 3, correct the word “would” to read “will”.

12. On page 39341, in the third column, under the heading “Cost Assessment,” on line 2, correct the words “practice or regulations” to read “practice or because of regulations”.

13. On page 39342, in the first column, on line 6, correct the word “assume” to read “assumes”.

14. On page 39342, in the second column, under the heading “Benefit Assessment,” on line 4, correct the words “Area Maritime Security” to read “Area Maritime Security (AMS)”.

15. On page 39343, in the second column, in the first paragraph under the heading “Assistance for Small Entities,” on line 3, correct the word “Pub. L.” to read “Public Law”.

16. On page 39343, in the third column, in the first paragraph under the subheading “Summary of the Collection of Information:”, on line 5, correct the words “OCS platforms” to read “OCS facilities”.

Corrections to the Regulatory Text

PART 106—OUTER CONTINENTAL SHELF (OCS) FACILITY SECURITY

1. Correct part 106 by revising the authority citation to read as follows:

Authority: 33 U.S.C. 1226, 1231; 46 U.S.C. Chapter 701; 50 U.S.C. 191; 33 CFR 1.05-1, 6.04-11, 6.14, 6.16, and 6.19; Department Of Homeland Security Delegation No. 0170.1.

§ 106.205 [Corrected]

2. Correct § 106.205 by revising paragraph (c)(4) to read:

(4) Methodology of Facility Security Assessment.

3. In § 106.205(c)(5), correct the punctuation “.” to read “;”.

§ 106.215 [Corrected]

4. Correct § 106.215 by revising paragraph (a) to read:

(a) Knowledge of current and anticipated security threats and patterns.

§ 106.235 [Corrected]

5. In § 106.235(b), correct the words “owner and operator” to read “owner or operator”.

§ 106.240 [Corrected]

6. In § 106.240(b), correct the words “with the cognizant District Commander,” to read “the cognizant District Commander,”.

§ 106.250 [Corrected]

7. In § 106.250(d), correct the word “DOSs” to read “DoSs”.

§ 106.260 [Corrected]

8. In § 106.260(a)(1), correct the words “introduction or dangerous” to read “introduction of dangerous”.

9. In § 106.260(e)(7), correct the word “passengers” to read “OCS facility personnel”.

§ 106.275 [Corrected]

10. In § 106.275(a)(2)(i), correct the words “around OCS facility;” to read “around OCS facilities;”.

§ 106.280 [Corrected]

11. In § 106.280(e), correct the word “OSC” to read “OCS”.

§ 106.305 [Corrected]

12. In § 106.305(c)(2)(v), correct the word “and” to read “or”.

13. In § 106.305(d)(1)(iv), correct the punctuation “.” to read “;”.

§ 106.405 [Corrected]

14. In § 106.405(a) introductory text, correct the words “the list” to read “this paragraph”.

15. In § 106.405(a)(1), correct the term “OC” to read “OCS”.

Dated: July 11, 2003.
T.H. Gilmour,
Rear Admiral, U.S. Coast Guard, Assistant Commandant for Marine Safety, Security and Environmental Protection.

[FR Doc. 03-17977 Filed 7-15-03; 8:45 am]

BILLING CODE 4910-15-P 6